DEPARTMENT OF COMMERCE

International Trade Administration

[A-570-904]

Certain Activated Carbon From the People's Republic of China: Final Results of Antidumping Duty Administrative Review; 2013-2014

AGENCY: Enforcement and Compliance, International Trade Administration, Department of Commerce.

SUMMARY: The Department of Commerce (“Department”) published its Preliminary Results of the seventh antidumping duty administrative review on certain activated carbon from the People's Republic of China (“PRC”) on May 5, 2015.¹ Based upon our analysis of the comments received, we made changes to the margin calculations for these final results of the antidumping duty administrative review. The final weighted-average dumping margins are listed below in the “Final Results of the Review” section of this notice. The period of review (“POR”) is April 1, 2013, through March 31, 2014.

¹ See Certain Activated Carbon From the People's Republic of China: Preliminary Results of Antidumping Duty Administrative Review; 2013-2014, 80 FR 25669 (May 5, 2015), and accompanying Preliminary Decision Memorandum (“Preliminary Results”).

DATES: Effective date: October 9, 2015.

FOR FURTHER INFORMATION CONTACT: Bob Palmer or Frances Veith, AD/CVD Operations, Office V, Enforcement and Compliance, International Trade Administration, Department of Commerce, 14th Street and Constitution Avenue NW., Washington, DC 20230; telephone: (202) 482-9068, or (202) 482-4295, respectively.

SUPPLEMENTARY INFORMATION:

Background

The Department published the Preliminary Results on May 5, 2015.² In accordance with 19 CFR 351.309(c)(1)(ii), we invited parties to comment on our Preliminary Results.³ In the Preliminary Results, the Department provided parties the opportunity to submit post-Preliminary Results comments on surrogate country lists and surrogate country selection. The Department extended this deadline based on requests from interested parties.⁴ Additionally, the Department extended the deadlines for submission of case and rebuttal briefs three times based on requests from interested parties.⁵ On June 22, 2015, Carbon Activated,⁶ Datong,⁷ Jacobi,⁸ and Petitioners ⁹ submitted case briefs. On July 2, 2015, Carbon Activated, Datong, Jacobi, and Petitioners submitted rebuttal briefs. On June 26, 2015, pursuant to 19 CFR 351.302(d), we rejected Petitioners' case brief because it contained untimely new factual information, and instructed Petitioners to resubmit a redacted case brief, which they submitted on June 30, 2015. On July 31, 2015, the Department held a public hearing. On August 27, 2015, the Department partially extended the deadline for issuing the final results by 30 days.¹⁰

² Id.

³ Id.

⁴ See Memorandum to the File, from Frances Veith, Senior International Trade Compliance Analyst, Enforcement and Compliance, dated May 5, 2015; see also Memorandum to the File, from Frances Veith, Senior International Trade Compliance Analyst, Enforcement and Compliance, dated May 6, 2015.

⁵ See Memorandum to the File, from Frances Veith, Senior International Trade Compliance Analyst, Enforcement and Compliance, dated May 26, 2015; see also Memorandum to the File, from Frances Veith, Senior International Trade Compliance Analyst, Enforcement and Compliance, dated June 15, 2015, see also Memorandum to the File, from Frances Veith, Senior International Trade Compliance Analyst, Enforcement and Compliance, dated June 24, 2015.

⁶ Carbon Activated Tianjin Co. Ltd. (“Carbon Activated”).

⁷ Datong Juqiang Activated Carbon Co., Ltd. (“Juqiang”).

⁸ Jacobi Carbons AB (“Jacobi”).

⁹ Calgon Carbon Corporation and Cabot Norit Americas, Inc. (collectively, “Petitioners”).

¹⁰ See Memorandum to Gary Taverman, Associate Deputy Assistant Secretary, through James C. Doyle, Director, Office V, from Bob Palmer International Trade Compliance Analyst, Office V, regarding “Certain Activated Carbon from the People's Republic of China (“PRC”): Extension of Deadline for Final Results of Antidumping Duty Administrative Review,” dated August 27, 2015.

Scope of the Order

The merchandise subject to the Order ¹¹ is certain activated carbon. The products are currently classifiable under the Harmonized Tariff Schedule of the United States (“HTSUS”) subheading 3802.1000. Although the HTSUS subheading is provided for convenience and customs purposes, the written description of the scope of the order remains dispositive.¹²

¹¹ See Notice of Antidumping Duty Order: Certain Activated Carbon from the People's Republic of China, 72 FR 20988 (April 27, 2007) (“Order”).

¹² See Memorandum to Ronald Lorentzen, Acting Assistant Secretary for Enforcement and Compliance, from Christian Marsh, Deputy Assistant Secretary for Antidumping and Countervailing Duty Operations, regarding “Certain Activated Carbon from the People's Republic of China: Issues and Decision Memorandum for the Final Results of the Seventh Antidumping Duty Administrative Review,” dated concurrently with and hereby adopted by this notice, (“Issues and Decision Memo”) for a complete description of the Scope of the Order.

Analysis of Comments Received

In the Issues and Decision Memo, we addressed all issues raised in parties' case and rebuttal briefs. In an Appendix to this notice, we have provided a list of the issues raised by parties. The Issues and Decision Memo is a public document and is on file in the Central Records Unit (“CRU”), Room B8024 of the main Department of Commerce building, as well as electronically via Enforcement and Compliance's Antidumping and Countervailing Duty Centralized Electronic Service System (“ACCESS”). ACCESS is available to registered users at https://access.trade.gov and it is available to all parties in the CRU. In addition, parties can directly access a complete version of the Issues and Decision Memo on the internet at http://enforcement.trade.gov/frn/index.html. The signed Issues and Decision Memo and the electronic version of the Issues and Decision Memo are identical in content.

Changes Since the Preliminary Results

Based on our review of the record and comments received from interested parties regarding our Preliminary Results, we have made certain revisions to the margin calculations for Jacobi, Datong, and the non-examined, separate rate respondents.¹³ Further, the Surrogate Values Memo¹⁴ contains descriptions of our changes to the surrogate values.

¹³ See Issues and Decision Memo and the company-specific analysis memoranda for further explanation regarding these changes.

¹⁴ See Memorandum to the File, through Catherine Bertrand, Program Manager, Office V, from Bob Palmer, Case Analyst, Office V, Certain Activated Carbon from the People's Republic of China (“PRC”): Surrogate Values for the Final Results,” dated concurrently with this notice (“Surrogate Values Memo”).

Final Determination of No Shipments

In the Preliminary Results, the Department preliminarily determined that Sinoacarbon International Trading Co., Ltd. (“Sinoacarbon”) did not have any reviewable transactions during the POR.¹⁵ We have not received any information to contradict this determination. Therefore, the Department determines that Sinoacarbon did not have any reviewable entries of subject merchandise during the POR, and will issue appropriate instructions that are consistent with our “automatic assessment” clarification, for these final results.¹⁶

¹⁵ With respect to one company under review, Ningxia Guanghua Activated Carbon Co., Ltd. (“Guanghua”), we preliminarily determined not to consider the company's statement of no shipments because we determined that Guanghua is part of a single entity with Ningxia Guanghua Cherishmet Activated Carbon Co., Ltd. No party commented on that determination, and we continue to find that Guanghua's exports are subject to the cash deposit rate established for the single entity in this review.

¹⁶ See Non-Market Economy Antidumping Proceedings: Assessment of Antidumping Duties, 76 FR 65694 (October 4, 2011) (“Assessment Practice Refinement”).

Separate Rate Respondents

In our Preliminary Results, we determined that the following companies (including both mandatory respondents) met the criteria for separate rate status: Beijing Pacific Activated Carbon Products Co., Ltd.,¹⁷ Calgon Carbon (Tianjin) Co., Ltd.; Carbon Activated Tianjin Co., Ltd.; Datong Municipal Yunguang Activated Carbon Co., Ltd.; Datong Juqiang Activated Carbon Co., Ltd.; Jacobi Carbons AB; Jilin Bright Future Chemicals Company, Ltd.; Ningxia Guanghua Cherishmet Activated Carbon Co., Ltd.; Ningxia Huahui Activated Carbon Co., Ltd.; Ningxia Mineral & Chemical Limited; Shanxi DMD Corporation; Shanxi Industry Technology Trading Co., Ltd.; Shanxi Sincere Industrial Co., Ltd.; Tancarb Activated Carbon Co., Ltd.; Tianjin Channel Filters Co., Ltd.; and Tianjin Maijin Industries Co., Ltd.¹⁸ We have received no comments or argument since the issuance of the Preliminary Results that provides a basis for reconsideration of these determinations. Therefore, the Department continues to find that the companies listed above meet the criteria for a separate rate.

¹⁷ In the first administrative review, the Department found Beijing Pacific Activated Carbon Products Co., Ltd., Ningxia Guanghua Cherishmet Activated Carbon Co., Ltd., and Guanghua are a single entity and there is no information on the record to indicate the facts have changed. Therefore, we continue to treat these companies as a single entity. See Certain Activated Carbon From the People's Republic of China: Notice of Preliminary Results of the Antidumping Duty Administrative Review and Extension of Time Limits for the Final Results, 74 FR 21317 (May 7, 2009), unchanged in First Administrative Review of Certain Activated Carbon from the People's Republic of China: Final Results of Antidumping Duty Administrative Review, 74 FR 57995 (November 10, 2009) (“AR1 Carbon”); AR5 PRC Carbon Final, 78 FR at 70535; Certain Activated Carbon From the People's Republic of China: Final Results of Antidumping Duty Administrative Review; 2012-2013, 79 FR 70163, 70165 (November 26, 2013) at footnote 33.

¹⁸ See Preliminary Results, 80 FR 25669; Preliminary Decision Memorandum at 6-11.

Rate for Non-Examined Separate Rate Respondents

In the Preliminary Results, we assigned Jacobi's rate to the non-individually examined companies that are eligible for a separate rate because only Jacobi had a preliminary estimated weighted-average dumping margin which was not zero, de minimis or based entirely on FA.¹⁹ In this final results of review, Jacobi continues to be the only individually examined company that has an estimated weighted-average dumping margin which is not zero, de minimis or based entirely on FA. Therefore, we will use the rate calculated for Jacobi, which is 1.05 U.S. Dollars per kilogram, as the rate for those companies which were not examined and which are eligible for a separate rate. The Separate-Rate Applicants receiving this rate are identified by name in the below “Final Results of the Review” section of this notice. No parties have commented on the methodology for calculating this separate rate.

¹⁹ See Preliminary Decision Memorandum at 11-12.

Final Results of the Review

The Department continues to find that the four companies not eligible for a separate rate are part of the PRC-wide entity. Those four companies are Ningxia Guanghua A/C Co., Ltd., Shanghai Astronautical Science Technology Development Corporation, Tangshan Solid Carbon Co., Ltd., and Zhejiang Xingda Activated Carbon Co., Ltd. Because no party requested a review of the PRC-wide entity and the Department no longer considers the PRC-wide entity as an exporter conditionally subject to administrative reviews,²⁰ we did not conduct a review of the PRC-wide entity. Thus, the rate for the PRC-wide entity is not subject to change as a result of this review.²¹

²⁰ See Antidumping Proceedings: Announcement of Change in Department Practice for Respondent Selection in Antidumping Duty Proceedings and Conditional Review of the Nonmarket Economy Entity in NME Antidumping Duty Proceedings, 78 FR 65963, 65969-70 (November 4, 2013).

²¹ In the second administrative review of the Order, the Department determined that it would calculate per-unit weighted-average dumping margins and assessment rates for all future reviews. See Certain Activated Carbon From the People's Republic of China: Final Results and Partial Rescission of Second Antidumping Duty Administrative Review, 75 FR 70208, 70211 (November 17, 2010). See also Notice of Antidumping Duty Order: Certain Activated Carbon From the People's Republic of China, 72 FR 20988 (April 27, 2007) (“Order”).

For companies subject to this review which established their eligibility for a separate rate,²² the Department determines that the following weighted-average dumping margins exist for the POR from April 1, 2013, through March 31, 2014: ²³

²² In the third administrative review, the Department found that Jacobi Carbons AB, Tianjin Jacobi International Trading Co. Ltd., and Jacobi Carbons Industry (Tianjin) are a single entity and, because there were no changes to the facts which supported that decision since that determination was made, we continue to find that these companies are part of a single entity for this administrative review. See Certain Activated Carbon From the People's Republic of China: Final Results and Partial Rescission of Third Antidumping Duty Administrative Review, 76 FR 67142 (October 31, 2011); Certain Activated Carbon From the People's Republic of China; 2010-2011; Final Results of Antidumping Duty Administrative Review, 77 FR 67337, 67338 (November 9, 2012); Certain Activated Carbon From the People's Republic of China; 2011-2012; Final Results of Antidumping Duty Administrative Review, 78 FR 70533, 70535 (November 26, 2013); Certain Activated Carbon From the People's Republic of China: Final Results of Antidumping Duty Administrative Review; 2012-2013, 79 FR 70163, 70165 (November 25, 2014).

²³ As noted above, Beijing Pacific Activated Carbon Products Co., Ltd., Ningxia Guanghua Cherishmet Activated Carbon Co., Ltd., and Ningxia Guanghua Activated Carbon Co., Ltd. comprise a single entity.

Exporter | Weighted- average dumping margin (U.S. dollars per kilogram) ²¹
Jacobi Carbons AB ²² | 1.05
Datong Juqiang Activated Carbon Co., Ltd | 0.00
Carbon Activated Tianjin Co., Ltd | 1.05
Calgon Carbon (Tianjin) Co., Ltd | 1.05
Datong Municipal Yunguang Activated Carbon Co., Ltd | 1.05
Jilin Bright Future Chemicals Company, Ltd | 1.05
Ningxia Guanghua Cherishmet Activated Carbon Co., Ltd ²³ | 1.05
Ningxia Huahui Activated Carbon Co., Ltd | 1.05
Ningxia Mineral and Chemical Limited | 1.05
Shanxi DMD Corporation | 1.05
Shanxi Industry Technology Trading Co., Ltd | 1.05
Shanxi Sincere Industrial Co., Ltd | 1.05
Tancarb Activated Carbon Co., Ltd | 1.05
Tianjin Channel Filters Co., Ltd | 1.05
Tianjin Maijin Industries Co., Ltd | 1.05

Assessment Rates

Pursuant to section 751(a)(2)(C) of the Act and 19 CFR 351.212(b), the Department has determined, and U.S. Customs and Border Protection (“CBP”) shall assess, antidumping duties on all appropriate entries covered by this review. The Department intends to issue assessment instructions to CBP 15 days after the publication date of these final results of this review. In accordance with 19 CFR 351.212(b)(1), we are calculating importer- (or customer-) specific assessment rates for the merchandise subject to this review. As the Department stated in the most recent administrative review,²⁴ we will continue to direct CBP to assess importer-specific assessment rates based on the resulting per-unit (i.e., per-kilogram) rates by the weight in kilograms of each entry of the subject merchandise during the POR. Specifically, we calculated importer-specific duty assessment rates on a per-unit rate basis by dividing the total amount of dumping for each importer by the total sales quantity of subject merchandise sold to that importer during the POR. For any individually examined respondent whose weighted-average dumping margin is above de minimis (i.e., 0.50 percent), the Department will calculate importer-specific assessment rates on the basis of the ratio of the total amount of dumping calculated for the importer's examined sales and the total entered value of sales.²⁵ We will instruct CBP to assess antidumping duties on all appropriate entries covered by this review when the importer-specific assessment rate is above de minimis. Where either the respondent's weighted-average dumping margin is zero or de minimis, or an importer-specific assessment rate is zero or de minimis, we will instruct CBP to liquidate the appropriate entries without regard to antidumping duties.

²⁴ See AR6 Carbon, 79 FR at 70165.

²⁵ See Antidumping Proceedings: Calculation of the Weighted-Average Dumping Margin and Assessment Rate in Certain Antidumping Proceedings: Final Modification, 77 FR 8101 (February 14, 2012).

Pursuant to a refinement in the Department's non-market economy (“NME”) practice, for entries that were not reported in the U.S. sales databases submitted by companies individually examined during this review, the Department will instruct CBP to liquidate such entries at the PRC-wide rate. In addition, if the Department determines that an exporter under review had no shipments of the subject merchandise, any suspended entries that entered under that exporter's case number (i.e., at that exporter's rate) will be liquidated at the PRC-wide rate.²⁶

²⁶ For a full discussion of this practice, see Assessment Practice Refinement, 76 FR at 65694.

Cash Deposit Requirements

The following cash deposit requirements will be effective upon publication of the final results of this administrative review for all shipments of the subject merchandise from the PRC entered, or withdrawn from warehouse, for consumption on or after the publication date, as provided by section 751(a)(2)(C) of the Act: (1) For Jacobi, Datong, and the non-examined, separate rate respondents, the cash deposit rate will be equal to their weighted-average dumping margins established in the final results of this review; (2) for previously investigated or reviewed PRC and non-PRC exporters not listed above that have separate rates, the cash deposit rate will continue to be the exporter-specific rate published for the most recently completed segment of this proceeding in which they were reviewed; (3) for all PRC exporters of subject merchandise that have not been found to be entitled to a separate rate, the cash deposit rate will be equal to the weighted-average dumping margin for the PRC-wide entity (i.e., 2.42 U.S. Dollars per kilogram); and (4) for all non-PRC exporters of subject merchandise which have not received their own rate, the cash deposit rate will be the rate applicable to the PRC exporters that supplied that non-PRC exporter. These cash deposit requirements, when imposed, shall remain in effect until further notice.

Disclosure

We intend to disclose the calculations performed within five days of the date of publication of this notice to parties in this proceeding in accordance with 19 CFR 351.224(b).

Notification to Importers Regarding the Reimbursement of Duties

This notice also serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of double antidumping duties.

Notification Regarding Administrative Protective Order

This notice also serves as a reminder to parties subject to administrative protective order (“APO”) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

We are issuing and publishing these final results of administrative review and notice in accordance with sections 751(a)(1) and 777(i) of the Act.

Dated: October 2, 2015.
Ronald Lorentzen,
Acting Assistant Secretary for Enforcement and Compliance.

Appendix—Issues and Decision Memorandum

Summary

Background

Discussion of the Issues

General Issues

Comment 1: Surrogate Country

Comment 2: Financial Statements

Comment 3: Value Added Tax and Entered Value

Comment 4: Application of the Differential Pricing Analysis

Surrogate Values

Comment 5: Anthracite Coal Surrogate Value

Comment 6: Carbonized Material Surrogate Value

Comment 7: Surrogate Value-Coal Tar

Comment 8: Surrogate Value-Buckle

Comment 9: Surrogate Value-Paperboard

Comment 10: Surrogate Value-Hydrochloric Acid

Comment 11: Labor

Comment 12: Brokerage and Handling

Comment 13: Truck Freight

Company Specific Issues

Comment 14: Whether the Department Correctly Converted Jacobi's Indirect Selling Expense From Pounds to Metric Tons in Its Margin Program

Comment 15: Juqiang's Margin Program

[FR Doc. 2015-25810 Filed 10-8-15; 8:45 am]

BILLING CODE 3510-DS-P